DEPARTMENT OF THE INTERIOR

Bureau of Indian Affairs

[156A2100DD/AAKC001030/A0A501010.999900 253G]

Draft Environmental Impact Statement for the Proposed Aiya Solar Project, Clark County, Nevada

AGENCY: Bureau of Indian Affairs, Interior.

ACTION: Notice of Availability.

SUMMARY: In accordance with the National Environmental Policy Act (NEPA), the Bureau of Indian Affairs (BIA), as the lead Federal agency, with the Bureau of Land Management (BLM), the Environmental Protection Agency (EPA), U.S. Fish and Wildlife Service (USFWS), and the Moapa Band of Paiute Indians (Tribe) as Cooperating Agencies, has prepared a draft environmental impact statement (DEIS) for the proposed Aiya Solar Project on the Moapa River Indian Reservation (Reservation) in Clark County, Nevada. This notice announces that the DEIS is now available for public review and that BIA will hold public meetings to solicit comments on the DEIS.

DATES: The date and locations of the public meetings will be announced at least 15 days in advance through notices in the following local newspapers: Las Vegas Sun, Las Vegas Review Journal and the Moapa Valley Progress and on the following Web site: www.AiyaSolarProjectEIS.com. In order to be fully considered, written comments on the DEIS must arrive no later than 45 days after EPA publishes its Notice of Availability in the Federal Register.

ADDRESSES: You may mail, email, hand deliver or telefax written comments to Mr. Chip Lewis, Acting Regional Environmental Protection Officer, BIA Western Regional Office, Branch of Environmental Quality Services, 2600 North Central Avenue, 4th Floor Mail Room, Phoenix, Arizona 85004-3008; fax (602) 379-3833; email: chip.lewis@bia.gov. The DEIS will be available for review at: BIA Western Regional Office, 2600 North Central Avenue, 12th Floor, Suite 210, Phoenix, Arizona; BIA Southern Paiute Agency, 180 North 200 East, Suite 111, St. George, Utah; and the BLM Southern Nevada District Office, 4701 N. Torrey Pines Drive, Las Vegas, Nevada. The DEIS is also available on line at: www.AiyaSolarProjectEIS.com.

To obtain a compact disk copy of the DEIS, please provide your name and address in writing or by voicemail to Mr. Chip Lewis or Mr. Garry Cantley. Their contact information is listed in the FOR FURTHER INFORMATION CONTACT section of this notice. Individual paper copies of the DEIS will be provided only upon request.

FOR FURTHER INFORMATION CONTACT: Mr. Chip Lewis, BIA Western Regional Office, Branch of Environmental Quality Services, 2600 North Central Avenue, Phoenix, Arizona 85004-3008, telephone (602) 379-6782; or Mr. Garry Cantley at (602) 379-6750.

SUPPLEMENTARY INFORMATION: The proposed Federal action, taken under 25 U.S.C. 415, is BIA's approval of a solar energy ground lease and associated agreements entered into by the Tribe with Aiya Solar Project, LLC (Aiya Solar or Applicant), a wholly owned subsidiary of First Solar, Inc. (First Solar), to provide for construction and operation of an up-to 100 megawatt (MW) alternating current solar photovoltaic (PV) electricity generation facility located entirely on the Reservation and specifically on lands held in trust by BIA for the Tribe. The proposed 230 kilovolt (kV) generation-tie transmission line required for interconnection would be located on Tribal lands, private lands and Federal lands administered and managed by BLM. The Applicant has accordingly requested that BIA and BLM additionally approve right-of-ways (ROWs) authorizing the construction and operation of the transmission line. Together, the proposed solar energy facility, transmission line, and other associated facilities make up the proposed Aiya Solar Project (Project).

The Project would be located in Township 14 South, Range 66 East, Sections 29, 30, 31, and 32 Mount Diablo Meridian, Nevada. The generation facility would generate electricity using PV panels. Also included would be inverters, a collection system, an on-site substation to step-up the voltage to transmission level voltage at 230 kV, an operations and maintenance building, and other related facilities. A single overhead 230 kV generation-tie transmission line, approximately 1.5 to 3 miles long, would connect the solar project to NV Energy's Reid-Gardner 230kV substation through a point northeast of the existing Reid-Gardner substation where a new NV Energy collector station would be built in the future.

Construction of the Project is expected to take approximately 12 to 15 months. The Applicant is expected to operate the energy facility for 30 years, with two options to renew the lease for an additional 10 years, if mutually acceptable to the Tribe and Applicant. During construction, the PV panels will be placed on top of fixed-tilt and/or single-axis tracking mounting systems that are set on steel posts embedded in the ground. Other foundation design techniques may be used depending on the site topography and conditions. No water will be used to generate electricity during operations. Water will be needed during construction for dust control and a minimal amount will be needed during operations for landscape irrigation and administrative and sanitary water use on site. The water supply required for construction of the Project would be leased from the Tribe and would be provided via a new temporary intake installed in the Muddy River and a new temporary above-ground pipeline approximately two miles in length. Operational water would be provided through a tap into an existing water pipeline that crosses the solar site. Access to the Project will be provided via State Highway 168.

The purposes of the Project are to: (1) Provide a long-term, diverse, and viable economic revenue base and job opportunities for the Tribe; (2) help Nevada and neighboring states to meet their state renewable energy needs; and (3) allow the Tribe, in partnership with the Applicant, to optimize the use of the lease site while maximizing the potential economic benefit to the Tribe.

The BIA and BLM will use the EIS to make decisions on the land lease and ROW applications under their respective jurisdiction. The EPA may use the document to make decisions under its authorities. The Tribe may use the EIS to make decisions under its Tribal Environmental Policy Ordinance. The USFWS may use the EIS to support its decision under the Endangered Species Act.

Directions for Submitting Comments: Please include your name, return address and the caption: “DEIS Comments, Proposed Aiya Solar Project”, on the first page of your written comments.

Public Comment Availability: Written comments, including names and addresses of respondents will be available for public review at the BIA mailing addresses shown in the ADDRESSES section during regular business hours, 8 a.m. to 4:30 p.m., Monday through Friday, except holidays. Before including your address, telephone number, email address, or other personal identifying information in your comment, you should be aware that your entire comment—including your personal identifying information—may be made publicly available at any time. While you can ask us in your comment to withhold your personal identifying information from public review, we cannot guarantee that we will be able to do so.

Authority: This notice is published in accordance with section 1503.1 of the Council on Environmental Quality regulations (40 CFR part 1500 et seq.) and the Department of the Interior Regulations (43 CFR part 46) implementing the procedural requirements of the National Environmental Policy Act (42 U.S.C. 4321 et seq.), and in accordance with the exercise of authority delegated to the Assistant Secretary—Indian Affairs by part 209 of the Department Manual.

Dated: May 1, 2015.
Kevin Washburn,
Assistant Secretary—Indian Affairs.

[FR Doc. 2015-11298 Filed 5-14-15; 8:45 am]

BILLING CODE 4337-15-P